DEPARTMENT OF HEALTH AND HUMAN SERVICES

National Institutes of Health

Submission for OMB Review; 30-Day Comment Request; Investigating Factors That Influence Career Choice Among Neuroscience Trainees (NINDS)

SUMMARY: Under the provisions of Section 3507(a)(1)(D) of the Paperwork Reduction Act of 1995, the National Institute of Neurological Disorders and Stroke (NINDS), the National Institutes of Health, has submitted to the Office of Management and Budget (OMB) a request for review and approval of the information collection listed below. This proposed information collection was previously published in the Federal Register on Tuesday, January 12, 2016 on pages 1436-1437 and allowed 60-days for public comment. (No public comments were received.) The purpose of this notice is to allow an additional 30 days for public comment. The National Institute of Neurological Disorders and Stroke (NINDS), National Institutes of Health, may not conduct or sponsor, and the respondent is not required to respond to, an information collection that has been extended, revised, or implemented on or after October 1, 1995, unless it displays a currently valid OMB control number.

DATES: Comment Due Date: Comments regarding this information collection are best assured of having their full effect if received within 30 days of the date of this publication.

FOR FURTHER INFORMATION CONTACT: To obtain a copy of the data collection plans and instruments, or request more information on the proposed project, contact: Paul A. Scott, Ph.D., Director, Office of Science Policy and Planning, National Institute of Neurological Disorders and Stroke, 31 Center Drive, Room 8A03, Bethesda, MD 20892-2540 or call non-toll-free number (301) 451-7964 or Email your request, including your address to: NINDSWorkforceSurvey@mail.nih.gov. Formal requests for additional plans and instruments must be requested in writing.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Proposed Collection: Investigating Factors that Influence Career Choice Among Neuroscience Trainees NINDS, 0925—NEW, National Institute of Neurological Disorders and Stroke (NINDS), National Institutes of Health (NIH).

Need and Use of Information Collection: In order to create and administer effective training programs for a diverse research workforce, NINDS needs information about the factors influencing career choice among different populations, particularly those underrepresented in the neuroscience workforce. Few studies have looked into factors influencing career choice among biomedical science trainees and how those career choices are influenced by social identity (race/ethnicity, gender, disability, disadvantaged background, and their intersection); none, to our knowledge, has reported this data specifically for neuroscientists. In pursuit of the training mission of NINDS, the Office of Training, Career Development, and Workforce Diversity (OTCDWD) administers programs to train the next generation of neuroscientists and to increase diversity of the neuroscience workforce. The information collected from this survey will help give NINDS a clearer picture of the environment and experiences of our trainee and potential trainee community. We are seeking a more accurate understanding of the career choices neuroscience trainees are making, and how well NINDS supports our trainees' needs and facilitates successful career trajectories. The survey will help improve our current programs, develop training opportunities, and provide programmatic support for current and future NINDS trainees.

OMB approval is requested for 18 months. There are no costs to respondents other than their time. The total estimated annualized burden hours are 205.

Estimated Annualized Burden Hours
Type of respondent | Number of respondents | Number of responses per respondent | Average burden per response (in hours) | Total annual burden hour
Predoctoral | 314 | 1 | 20/60 | 105
Postdoctoral | 200 | 1 | 20/60 | 67
Professional | 100 | 1 | 20/60 | 33

Dated: March 18, 2016.
Walter Koroshetz,
Director, National Institute of Neurological Disorders and Stroke.

[FR Doc. 2016-06961 Filed 3-25-16; 8:45 am]

BILLING CODE 4140-01-P